DEPARTMENT OF DEFENSE

Office of the Secretary

[Docket ID DoD-2008-OS-0149]

Privacy Act of 1974; System of Records

AGENCY: Defense Logistics Agency, DoD.

ACTION: Notice To Amend a System of Records.

SUMMARY: The Defense Logistics Agency is amending a system of records notice in its existing inventory of record systems subject to the Privacy Act of 1974 (5 U.S.C. 552a), as amended.

DATES: This proposed action will be effective without further notice on January 2, 2009 unless comments are received which result in a contrary determination.

ADDRESSES: Send comments to the Privacy Act Officer, Headquarters, Defense Logistics Agency, Attn: DP, 8725 John J. Kingman Road, Stop 2533, Fort Belvoir, VA 22060-6221.

FOR FURTHER INFORMATION CONTACT: Ms. Jody Sinkler at (703) 767-5045.

SUPPLEMENTARY INFORMATION: The Defense Logistics Agency systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: November 25, 2008.
Morgan E. Frazier,
Alternate OSD Federal Register Liaison Officer, Department of Defense.

S500.55

SYSTEM NAME:

Information Technology Access and Control Records (November 23, 2005, 70 FR 70795).

CHANGES:

* * * * *

AUTHORITY FOR MAINTENANCE OF THE SYSTEM:

Delete entry and replace with “5 U.S.C. 301, Departmental Regulations; 10 U.S.C. 133, Under Secretary of Defense for Acquisition, Technology, and Logistics; 18 U.S.C. 1029, Access device fraud; E.O. 10450, Security Requirements for Government Employees, as amended; and E.O. 9397 (SSN).”

* * * * *

STORAGE:

Delete entry and replace with “Records may be stored on paper and on electronic storage media.”

RETRIEVABILITY:

Delete entry and replace with “Records are retrieved by name, Social Security Number (SSN), or user identification code.”

* * * * *

NOTIFICATION PROCEDURE:

Delete entry and replace with “Individuals seeking to determine whether this system of records contains information about themselves should address written inquiries to the Privacy Act Office, Headquarters Defense Logistics Agency, Attn: DGA, 8725 John J. Kingman Road, Suite 1644, Fort Belvoir, VA 22060-6221, or to the Privacy Act Office of the DLA Field Activity involved. Official mailing addresses are published as an appendix to DLA's compilation of systems of records notices.

Inquiry should contain the subject individual's full name, Social Security Number (SSN), or user identification code.”

RECORD ACCESS PROCEDURES:

Delete entry and replace with “Individuals seeking to access records about themselves contained in this system of records should address written inquiries to the Privacy Act Office, Headquarters Defense Logistics Agency, Attn: DGA, 8725 John J. Kingman Road, Suite 1644, Fort Belvoir, VA 22060-6221, or to the Privacy Act Office of the DLA Field Activity involved. Official mailing addresses are published as an appendix to DLA s compilation of systems of records notices.

Inquiry should contain the subject individual's full name, Social Security Number (SSN), or user identification code.”

CONTESTING RECORD PROCEDURES:

Delete entry and replace with “The DLA rules for accessing records, for contesting contents and appealing initial agency determinations are contained in 32 CFR part 323, or may be obtained from the Privacy Act Office, Headquarters, Defense Logistics Agency, ATTN: DGA, 8725 John J. Kingman Road, Suite 1644, Fort Belvoir, VA 22060-6221.”

* * * * *

S500.55

SYSTEM NAME:

Information Technology Access and Control Records.

SYSTEM LOCATION:

Director, Information Operations, Headquarters Defense Logistics Agency, Attn: J-6, 8725 John J. Kingman Road, Stop 6226, Fort Belvoir, VA 22060-6221, and the Defense Logistics Agency Field Activities. Official mailing addresses are published as an appendix to DLA's compilation of systems of records notices.

CATEGORIES OF INDIVIDUALS COVERED BY THE SYSTEM:

Defense Logistics Agency (DLA) civilian and military personnel, contractor employees, and individuals requiring access to DLA-controlled networks, computer systems, and databases.

CATEGORIES OF RECORDS IN THE SYSTEM:

System contains documents relating to requests for and grants of access to DLA computer networks, systems, or databases. The records contain the individual's name; social security number; citizenship; physical and electronic addresses; work telephone numbers; office symbol; contractor/employee status; computer logon addresses, passwords, and user identification codes; type of access/permissions required; verification of need to know; dates of mandatory information assurance awareness training; and security clearance data. The system also captures details about programs, databases, functions, and sites accessed and/or used; dates and times of use; and information products created, received, or altered during use. The records may also contain details about access or functionality problems telephoned in for technical support along with resolution. For individuals who telecommute from home or a telework center, the records may contain the electronic address and telephone number at that location. For contractors, the system also contains the company name, contract number, and contract expiration date.

AUTHORITY FOR MAINTENANCE OF THE SYSTEM:

5 U.S.C. 301, Departmental Regulations; 10 U.S.C. 133, Under Secretary of Defense for Acquisition, Technology, and Logistics; 18 U.S.C. 1029, Access device fraud; E.O. 10450, Security Requirements for Government Employees, as amended; and E.O. 9397 (SSN).

PURPOSE(S):

The system is maintained by DLA Information Operations to control and track access to DLA-controlled networks, computer systems, and databases. The records may also be used by law enforcement officials to identify the occurrence of and assist in the prevention of computer misuse and/or crime. Statistical data, with all personal identifiers removed, may be used by management for system efficiency, workload calculation, or reporting purposes.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DOD as a routine use pursuant to 5 U.S.C. 552a(b)(3) as follows:

The DOD “Blanket Routine Uses” also apply to this system of records.

POLICIES AND PRACTICES FOR STORING, RETRIEVING, ACCESSING, RETAINING, AND DISPOSING OF RECORDS:

STORAGE:

Records may be stored on paper and on electronic storage media.

RETRIEVABILITY:

Records are retrieved by name, Social Security Number (SSN), or user identification code.

SAFEGUARDS:

Records are maintained in secure, limited access, or monitored work areas accessible only to authorized personnel. Electronic records are stored on computer systems employing software programs that monitor network traffic to identify unauthorized attempts to upload or change information. Access to computer systems is password and/or Public Key Infrastructure controlled. Electronic records are stored in encrypted form.

RETENTION AND DISPOSAL:

Records are deleted when no longer needed for administrative, legal, audit, or other operational purposes. Records relating to contractor access are destroyed 3 years after contract completion or termination.

SYSTEM MANAGER(S) AND ADDRESS:

Director, Information Operations, Attn: J-6, 8725 John J. Kingman Road, Stop 6226, Fort Belvoir, VA 22060-6221, and the Information Operations Offices of DLA Field Activities. Official mailing addresses are published as an appendix to DLA's compilation of systems of records notices.

NOTIFICATION PROCEDURE:

Individuals seeking to determine whether this system of records contains information about themselves should address written inquiries to the Privacy Act Office, Headquarters Defense Logistics Agency, Attn: DGA, 8725 John J. Kingman Road, Suite 1644, Fort Belvoir, VA 22060-6221, or to the Privacy Act Office of the DLA Field Activity involved. Official mailing addresses are published as an appendix to DLA's compilation of systems of records notices.

Inquiry should contain the subject individual's full name, Social Security Number (SSN), or user identification code.

RECORD ACCESS PROCEDURES:

Individuals seeking to access records about themselves contained in this system of records should address written inquiries to the Privacy Act Office, Headquarters Defense Logistics Agency, Attn: DGA, 8725 John J. Kingman Road, Suite 1644, Fort Belvoir, VA 22060-6221, or to the Privacy Act Office of the DLA Field Activity involved. Official mailing addresses are published as an appendix to DLA's compilation of systems of records notices.

Inquiry should contain the subject individual's full name, Social Security Number (SSN), or user identification code.

CONTESTING RECORD PROCEDURES:

The DLA rules for accessing records, for contesting contents and appealing initial agency determinations are contained in 32 CFR part 323, or may be obtained from the Privacy Act Office, Headquarters, Defense Logistics Agency, Attn: DGA, 8725 John J. Kingman Road, Suite 1644, Fort Belvoir, VA 22060-6221.

RECORD SOURCE CATEGORIES:

Information is supplied by record subjects, their supervisors, and the personnel security staff. Some data, such as user identification codes, is supplied by the Information Technology staff. Details about access times and functions used are provided by the system.

EXEMPTIONS CLAIMED FOR THE SYSTEM:

None.

[FR Doc. E8-28602 Filed 12-1-08; 8:45 am]

BILLING CODE 5001-06-P